DEPARTMENT OF TRANSPORTATION

Research and Special Programs Administration

49 CFR Parts 171, 173, 174, 175, 176, 177, and 178

[Docket No. RSPA-98-4952 (HM-223)]

RIN 2137-AC68

Applicability of the Hazardous Materials Regulations to Loading, Unloading, and Storage; Cancellation of Public Meetings

AGENCY: Research and Special Programs Administration (RSPA), DOT.

ACTION: Proposed rule; cancellation of public meetings

SUMMARY: On June 14, 2001, RSPA published a notice of proposed rulemaking to clarify the applicability of the Hazardous Materials Regulations to specific functions and activities, including hazardous materials loading, unloading, and storage operations. On August 2, 2001, we announced two public meetings to facilitate public comment on the proposed rule. One public meeting was scheduled for September 14, 2001, in Washington, D.C.; on September 12, 2001, it was postponed. A second public meeting was scheduled for October 30, 2001, in Diamond Bar, California. The October 30 public meeting is cancelled; the September 14 public meeting will not be rescheduled.

DATES: The comment period closing date remains November 30, 2001.

ADDRESSES: Written comments. Submit comments to the Dockets Management System, U.S. Department of Transportation, Room PL 401, 400 Seventh Street, SW., Washington, DC 20590-0001. Comments should identify Docket Number RSPA-98-4952 (HM-223) and be submitted in two copies. If you wish to receive confirmation of receipt of your written comments, include a self-addressed, stamped postcard. You may also e-mail comments by accessing the Dockets Management System Web site at http://dms.dot.gov/ and following the instructions for submitting a document electronically.

The Dockets Management System is located on the Plaza level of the Nassif Building at the Department of Transportation at the above address. You can review public dockets there between the hours of 9 a.m. and 5 p.m., Monday through Friday, except federal holidays. You can also review comments on-line at the DOT Dockets Management System Web site at http://dms.dot.gov/.

FOR FURTHER INFORMATION CONTACT: Michael Johnsen (202) 366-8553, Office of Hazardous Materials Standards, Research and Special Programs Administration; or Susan Gorsky (202) 366-8553, Office of Hazardous Materials Standards, Research and Special Programs Administration.

SUPPLEMENTARY INFORMATION:

Background

On June 14, 2001, the Research and Special Programs Administration (RSPA, we) published a notice of proposed rulemaking (NPRM) (66 FR 32420) under Docket RSPA-98-4952 (HM-223) to clarify the applicability of the Hazardous Materials Regulations (HMR; 49 CFR Parts 171-180) to specific functions and activities, including hazardous materials loading and unloading operations and storage of hazardous materials during transportation. The HM-223 rulemaking has four overall goals. First, we want to maintain nationally uniform standards applicable to functions performed in advance of transportation to prepare hazardous materials for transportation. Second, we want to maintain nationally uniform standards applicable to transportation functions. Third, we want to distinguish functions that are subject to the HMR from functions that are not subject to the HMR. Finally, we want to clarify that facilities within which HMR-regulated functions are performed may also be subject to federal, state, or local regulations governing occupational safety and health or environmental protection.

To achieve these goals, the NPRM proposes to list in the HMR pre-transportation and transportation functions to which the HMR apply. Pre-transportation functions are functions performed to prepare hazardous materials for movement in commerce by persons who offer a hazardous material for transportation or cause a hazardous material to be transported. Transportation functions are functions performed as part of the actual movement of hazardous materials in commerce, including loading, unloading, and storage of hazardous materials that is incidental to their movement. The NPRM also proposes to clarify that “transportation in commerce,” for purposes of applicability of the HMR, begins when a carrier takes possession of a hazardous material and continues until the carrier delivers the package containing the hazardous material to its destination as indicated on shipping papers. In addition, the NPRM proposes to include in the HMR an indication that facilities at which functions regulated by the HMR occur may also be subject to applicable standards and regulations of other federal agencies and state, local, and tribal governments. Finally, the NPRM proposes to include in the HMR the statutory criteria under which non-federal governments may be precluded from regulating in certain areas under the preemption provisions of the federal hazardous materials transportation law (49 U.S.C. 5101 et seq.)

On August 2, 2001, we announced that we planned to host two public meetings to facilitate public comment on the NPRM (66 FR 40174). The first public meeting was scheduled for September 14, 2001, in Washington, D.C. The second public meeting was to be held in Diamond Bar, California, on October 30, 2001. We also extended the comment period for the NPRM to November 30, 2001.

On September 12, 2001, we announced on our website (http://hazmat.dot.gov) and by telephone to registered participants that the September 14 meeting was postponed, but that we likely would reschedule it for a later date. As of September 25, only ten persons had indicated to us that they planned to make presentations at the Washington meeting; only four persons had registered with us to speak at the California meeting on October 30, and two of them were among the ten Washington speakers. Therefore, we decided to cancel the California public meeting. Further, we decided against rescheduling the Washington meeting. The comment period for the NPRM remains open until November 30, 2001. We urge all interested persons to submit written comments on the NPRM. We will consider late-filed comments to the extent possible as we consider whether to proceed to a final rule.

If you believe that written comments are not sufficient to assure that your views on the NPRM are communicated to us and that a public meeting to facilitate comment on the NPRM is necessary, please submit a statement explaining why a public meeting is necessary to the HM-223 docket. If there is sufficient interest, we will reconsider our decision on the public meetings.

Issued in Washington, DC, on September 26, 2001.
Robert A. McGuire,
Associate Administrator for Hazardous Materials Safety, Research and Special Programs Administration.

[FR Doc. 01-24539 Filed 10-1-01; 8:45 am]

BILLING CODE 4910-60-P